DEPARTMENT OF STATE

[Public Notice No. 3212]

Preparatory Meeting for the 2000 International Telecommunication Union World Radiocommunication Conference (WRC-2000); Meeting

The Department of State announces an open meeting for the purpose of forming the United States delegation to the 2000 International Telecommuication Union (ITU) World Radiocommunication Conference (WRC-2000). This meeting will solicit expressions of interest in participating as a member of the U.S. Delegation to WRC-2000 and convey information regarding planned U.S. preparatory activities in advance of the WRC. The meeting will be held from 9:30 to noon on February 16, 2000 in the Dean Acheson Auditorium at the Department of State. Members of the general public may attend these meetings and join in the discussions, subject to the instructions of the Chair. Admission of public members will be limited to seating available. Entrance to the Department of State is controlled; people intending to attend any of these meetings should send a fax to 202-647-7407 not later than 24 hours before the meeting. This fax should provide the name of the meeting, (WRC-2000 Preparatory Meeting) and date of the meeting, your name, social security number, date of birth, and organizational affiliation. One of the following valid photo identifications will be required for admittance: US driver's license, US passport, US Government identification card. Enter from the 23rd Street entrance lobby; in view of escorting requirements, non-Government attendees should plan to arrive not later than 15 minutes before the meeting begins.

Dated: January 28, 2000.
Richard C. Beaird,
Acting, U.S. Coordinator for International Communications & Information Policy, U.S. Department of State.

[FR Doc. 00-3082 Filed 2-9-00; 8:45 am]

BILLING CODE 4710-45-P